DEPARTMENT OF VETERANS AFFAIRS

[OMB Control No. 2900-0002]

Agency Information Collection Activity: 21P-527 Income, Net Worth and Employment Statement; 21P-527EZ Application for Veterans Pension

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before May 31, 2022.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0002” in any correspondence. During the comment period, comments may be viewed online through FDMS.

FOR FURTHER INFORMATION CONTACT: Maribel Aponte, Office of Enterprise and Integration, Data Governance Analytics (008), 1717 H Street NW, Washington, DC 20006, (202) 266-4688 or email maribel.aponte@va.gov. Please refer to “OMB Control No. 2900-0002” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: 38 U.S.C. 5101(a), 38 CFR 1502, 38 CFR 1503.

Title: 21P-527 Income, Net Worth and Employment Statement; 21P-527EZ Application for Veterans Pension.

OMB Control Number: 2900-0002.

Type of Review: Revision of a currently approved collection.

Abstract: The Department of Veterans Affairs (VA) through its Veterans Benefits Administration (VBA) administers an integrated program of benefits and services, established by law, for Veterans, service personnel, and their dependents and/or beneficiaries. Title 38 U.S.C. 5101(a), 38 CFR 1502, 38 CFR 1503 provides that a specific claim in the form provided by the Secretary must be filed in order for benefits to be paid to any individual under the laws administered by the Secretary. VA Form 21P-527EZ, Application for Pension, is the prescribed form for Veterans Pension applications. VA Form 21P-527 Income, Net Worth and Employment Statement, is used by Veterans to apply for pension benefits after they have previously applied for pension or for service-connected disability compensation using one of the prescribed forms. A Veteran might reapply for pension using this form if a previous compensation or pension claim was denied or discontinued, or if the Veteran is receiving compensation and the veteran now believes that pension would be a greater benefit.

The following updates were made:

• VA Form 21P-527EZ, Application for Veterans Pension

• VA Form 21P-527, Income, Net Worth and Employment Statement

VA Form 21P-527EZ has been updated, to include:

• Updated instructions.

• Added an optional use Veterans Benefits Application Checklist for applicant's benefit to assist in organizing submission of claim

• Separated Section I and II to split Veteran's Identification Information from contact information

• Removed questions—How many times veteran married?/How many times Spouse married? as regulations allow

• Removed mailing address of nursing home or facility from Section VIII as this is covered in the Worksheet the claimant is directed to complete.

• Added an income source section and updated Section IX instructions to reflect this change.

• Added an Alternate Signer Certification and Signature (Section XIII).

• Restructured Worksheet for An Assisted Living, Adult Daycare, or a Similar Facility and the Worksheet for In-Home Attendant Expenses and questions removed for better clarity.

New standardization data points; to include optical character recognition boxes. This is a non-substantive change.

Affected Public: Individuals and households.

Estimated Annual Burden: 24,731 hours.

Estimated Average Burden per Respondent: 27.5 minutes.

Frequency of Response: On occasion.

Estimated Number of Respondents: 53,958.

By direction of the Secretary.
Maribel Aponte,
VA PRA Clearance Officer, Office of Enterprise and Integration/Data Governance Analytics, Department of Veterans Affairs.

[FR Doc. 2022-06651 Filed 3-29-22; 8:45 am]

BILLING CODE 8320-01-P